DEPARTMENT OF AGRICULTURE

Submission for OMB Review; Comment Request

January 17, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Classical Swine Fever Status of Chile.

OMB Control Number: 0579-0235.

Summary of Collection: Veterinary Services, a program within USDA's Animal and Plant Health Inspection Service (APHIS) is responsible for carrying out this disease prevention mission. The agency regulates the importation of animals and animal products into the U.S. to guard against the introduction of exotic animal diseases such as classical swine fever. The regulations under which APHIS conducts these disease prevention activities are contained in Title 9, Chapter 1, Subchapter D, and Part 91 through 99 of the Code of Federal Regulations. These regulations place certain restrictions on the importation of swine, pork and pork products in order to prevent an incursion of classical swine fever or other exotic swine diseases into the U.S.

Need and Use of the Information: Swine, pork, and pork products from specified regions must be accompanied by a certificate issued by a salaried veterinary officer of the Government of Chile. The certificate must identify both the exporting region and the region of origin as a region designated in Sections 94.9 and 94.10 (Title 9, Code of Federal Regulations) as free of classical swine fever at the time the swine, pork, or pork products were in the region.

Description of Respondents: Business or other for-profit; State, Local or Tribal Government.

Number of Respondents: 10.

Frequency of Responses: Reporting: On occasion.

Total Burden Hours: 50.

Ruth Brown,
Departmental Information Collection Clearance Officer.

[FR Doc. E7-803 Filed 1-19-07; 8:45 am]

BILLING CODE 3410-34-P